DEPARTMENT OF THE INTERIOR

Bureau of Indian Affairs

Supplemental Environmental Impact Statement for the Proposed Campo Regional Landfill Project on the Campo Indian Reservation, San Diego County, CA

AGENCY: Bureau of Indian Affairs, Interior.

ACTION: Notice of cancellation.

SUMMARY: This notice announces that the Bureau of Indian Affairs (BIA) as lead agency, in cooperation with the Campo Band of Mission Indians (Campo Band), Campo Environmental Protection Agency (CEPA) and the U.S. Environmental Protection Agency (EPA), intends to cancel all work on a Supplemental Environmental Impact Statement (SEIS) for the BIA Federal action of approving an amended lease and amended sublease to allow for the proposed Campo Regional Landfill Project (Proposed Action) to be located on the Campo Indian Reservation, San Diego County, California.

DATES: This cancellation is effective March 1, 2011. Written comments must arrive by February 28, 2011.

ADDRESSES: You may mail or hand carry written comments to Amy Dutschke, Regional Director, Pacific Regional Office, Bureau of Indian Affairs, 2800 Cottage Way, Sacramento, California 95825.

FOR FURTHER INFORMATION CONTACT: John Rydzik, (916) 978-6051.

SUPPLEMENTARY INFORMATION: The BIA is canceling work on the SEIS because the Campo Band of Mission Indians, by Tribal resolution, informed the BIA that the Tribe terminated the amended lease with Muht-Hei (MHI) and amended sublease between MHI and BLT Enterprises, Inc. (BLT), of Oxnard, California, to develop the Campo Regional Landfill Project (Proposed Action). There is no Federal action of amended lease and amended sublease approval for BIA consideration. The Notice of Intent to prepare the SEIS, which included a description of the proposed action, was published in the Federal Register on November 8, 2005 (70 FR 67738-67739). The Notice of Availability of the Draft SEIS was published in the Federal Register on February 26, 2010 (75 FR 8986-8988).

Public Comment Availability

Comments, including names and addresses of respondents, will be available for public review at the BIA address shown in the ADDRESSES section, during business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority

This notice is published pursuant to section 1503.1 of the Council of Environmental Quality Regulations (40 CFR parts 1500 through 1508) and section 46.305 of the Department of Interior Regulations (43 CFR part 46), implementing the procedural requirements of the National Environmental Policy Act of 1969, as amended (42 U.S.C. 4371 et seq.), and is in the exercise of authority delegated to the Assistant Secretary—Indian Affairs by 209 DM 8.

Dated: January 20, 2011.
Larry Echo Hawk,
Assistant Secretary—Indian Affairs.

[FR Doc. 2011-2426 Filed 2-2-11; 8:45 am]

BILLING CODE 4310-W7-P